DEPARTMENT OF COMMERCE

National Oceanic and Atmospheric Administration

[RTID 0648-XA920]

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold a meeting via webinar.

DATES: The Council meeting will be held from 1 p.m.-2 p.m. on Monday, March 29, 2021.

ADDRESSES: The meeting will be held via webinar. Webinar registration is required. Details are included in SUPPLEMENTARY INFORMATION.

FOR FURTHER INFORMATION CONTACT: Kim Iverson, Public Information Officer, SAFMC; phone 843/302-8440 or toll free 866/SAFMC-10; FAX 843/769-4520; email: kim.iverson@safmc.net.

SUPPLEMENTARY INFORMATION: Meeting information, including the webinar link, agenda, and briefing book materials will be posted on the Council's website at: http://safmc.net/safmc-meetings/council-meetings/.

The Council will convene to review section 216(c) of the Executive Order (E.O.) on Tackling the Climate Crisis at Home and Abroad (E.O. 14008) issued on January 27, 2021. Section 216(c) of the E.O. 14008 directs NOAA to collect recommendations on how to make fisheries, including aquaculture and protected resources more resilient to climate change, including changes in management and conservation measures and improvements in science, monitoring and cooperative research.

NOAA issued a Request for Information (RFI) on March 2, 2021 accepting written comments within 30-days and will continue to gather input through 2021. During the Council meeting, NOAA Fisheries will provide a presentation on Section 216 (c) of the E.O. and the Council will provide input.

Written comments may be directed to John Carmichael, Executive Director, South Atlantic Fishery Management Council (see ADDRESSES) or electronically via the Council's website at http://safmc.net/safmc-meetings/council-meetings/. Public comment will also be allowed as part of the meeting agenda.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: March 3, 2021.
Tracey L. Thompson,
Acting Deputy Director, Office of Sustainable Fisheries, National Marine Fisheries Service.

[FR Doc. 2021-04758 Filed 3-5-21; 8:45 am]

BILLING CODE 3510-22-P